DEPARTMENT OF HOUSING AND URBAN DEVELOPMENT

[Docket No. FR-7070-N-27]

30-Day Notice of Proposed Information Collection: Section 8 Renewal Policy Guidebook; OMB Control No.: 2502-0587

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: June 16, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Reports Management Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: This notice informs the public that HUD is seeking approval from OMB for the information collection described in section A.

The Federal Register notice that solicited public comment on the information collection for a period of 60 days was published on December 6, 2022 at 87 FR 74651.

A. Overview of Information Collection

Title of information collection: Section 8 Renewal Policy Guidebook.

OMB approval number: 2502-0587.

OMB expiration date: November 30, 2020.

Type of request: Reinstatement, with change, of previously approved collection for which approval has expired.

Form numbers:

1. Housing Assistance Payments Contract: HUD-52522a; HUD-52522b

2. Assignment, Assumption, and Amendment of Section 8 Housing Assistance Payments (HAP) Contract: HUD-5988 (new)

3. Use Agreement: HUD-90055

4. Rent Comparability Grid: HUD-92273-S8

5. Project-Based Section 8 Housing Assistance Payments: Addendum to Renewal Contract Under Option One or Option Two for Capital Repairs and/or Acquisition Costs: HUD-93181

6. Project-Based Section 8 Housing Assistance Payments: Addendum to Renewal Contract Under Option One or Option Two for Capital Repairs and/or Acquisition—Post-Rehabilitation Rents at Closing: HUD-93182

7. Rider to Original Section 8 Housing Assistance Payments Contract: HUD-93184

8. Amendment to Project-Based Section 8 Housing Assistance Payments Contract Pursuant to Section 8(bb)(1) of the United States Housing Act of 1937: HUD-93185a; HUD-93185b

9. Contract Renewal Request Form: HUD-9624

10. OCAF Rent Adjustment Worksheet: HUD-9625

11. Letters to Owners/Agents: HUD-9626

12. Letters to Owners/Agents: HUD-9627

13. Request to Renew Using Non-Section 8 Units in the Section 8 Project as a Market Rent Ceiling: HUD-9629

14. Request to Renew Using Fair Market Rents (FMRs) as Market Ceiling: HUD-9630

15. Sample Use Agreement: HUD-9634

16. Projects Preparing a Budget-Based Rent Increase: HUD-9635

17. Project-Based Section 8 Housing Assistance Payments Basic Renew Contract—One-Year Term: HUD-9636

18. Project-Based Section 8 Housing Assistance Payments Basic Renew Contract—Multi-Year Term: HUD-9637

19. Project-Based Section 8 Housing Assistance Payments Renewal Contract for Mark-Up-To-Market Project: HUD-9638

20. Project-Based Section 8 Housing Assistance Payments Preservation Renewal Contract: HUD-9639

21. Project-Based Section 8 Housing Assistance Payments Interim (Full) Mark-To-Market Renewal Contract: HUD-9640

22. Project-Based Section 8 Housing Assistance Payments Interim (Lite) Mark-To-Market Renewal Contract: HUD-9641

23. Project-Based Section 8 Housing Assistance Payments Full Mark-To-Market Renewal Contract: HUD-9642

24. Project-Based Section 8 Housing Assistance Payments Watch List Renewal Contract: HUD-9643

25. Project-Based Assistance Housing Assistance Payments Contract For Previous Mod Rehab Projects: HUD-9644

26. Housing Assistance Payments Program Housing Finance & Development Agencies Extension Amendment to Old Regulation State Agency Housing Assistance Payments Contract: HUD-9647

27. Project-Based Section 8 Contract Administration Consent to Assignment of HAP Contract as Security for Freddie Mac Financing: HUD-9648a

28. Project-Based Section 8 Contract Administration Consent to Assignment of HAP Contract to FNMA as Security for FNMA Credit Enhancement: HUD-9648d

29. Project-Based Section 8 Contract Administration Consent to Assignment of HAP Contract as Security for Financing: HUD-9649

30. Consent to Assignment of Senior Preservation Rental Assistance Contracts (SPRAC) as Security for Financing: HUD-9649a

31. Project-Based Section 8 Contract Administration Consent to Assignment of HAP Contract as Security for FNMA Financing: HUD-9651

Information collection | Number of respondents | Total annual responses | Burden hours per response | Total annual burden hrs. | Hourly cost to public | Total annual cost to public | Hourly cost to government | Total annual cost to government
Housing Assistance Payments Contract (HUD-52522a and b) | 20 | 20 | 0.50 | 10 | $39.72 | $397.20 | $51.18 | $511.80
Assignment, Assumption, and Amendment of Section 8 Housing Assistance Payments (HAP) Contract (HUD-5988) | 3,555 | 3,555 | 0.50 | 1,778 | 39.72 | 70,602.30 | 51.18 | 90,972.45
Section 8 Use Agreement (HUD-90055) | 75 | 75 | 0.50 | 38 | 39.72 | 1,489.50 | 51.18 | 1,919.25
Rent Comparability Grid (HUD-92273-S8) | 950 | 950 | 1.00 | 950 | 39.72 | 37,734.00 | 51.18 | 48,621.00
Project-Based Section 8 Housing Assistance Payments: Addendum to Renewal Contract Under Option One or Option Two for Capital Repairs and/or Acquisition Costs (HUD-93181) | 50 | 50 | 0.50 | 25 | 39.72 | 993.00 | 51.18 | 1,279.50
Project-Based Section 8 Housing Assistance Payments: Addendum to Renewal Contract Under Option One or Option Two for Capital Repairs and/or Acquisition—Post-Rehabilitation Rents at Closing (HUD-93182) | 150 | 150 | 0.50 | 75 | 39.72 | 2,979.00 | 51.18 | 3,838.50
Rider to Original Section 8 Housing Assistance Payments Contract (HUD-93184) | 20 | 20 | 0.50 | 10 | 39.72 | 397.20 | 51.18 | 511.80
Amendment to Project-Based Section 8 Housing Assistance Payments Contract [Contract A1] Pursuant to Section 8(bb)(1) of the United States Housing Act of 1937 (HUD-93185a) | 25 | 25 | 0.50 | 13 | 39.72 | 496.50 | 51.18 | 639.75
Amendment to Project-Based Section 8 Housing Assistance Payments Contract [Contract B] Pursuant to Section 8(bb)(1) of the United States Housing Act of 1937 (HUD-93185b) | 25 | 25 | 0.50 | 13 | 39.72 | 496.50 | 51.18 | 639.75
Contract Renewal Request Form (HUD-9624) | 2,000 | 2,000 | 1.00 | 2,000 | 39.72 | 79,440.00 | 51.18 | 102,360.00
OCAF Rent Adjustment Worksheet (HUD-9625) | 7,957 | 7,957 | 1.00 | 7,957 | 39.72 | 316,052.04 | 51.18 | 407,239.26
Letters to Owners/Agents: Option 1 and 3 (HUD-9626) | 419 | 419 | 0.25 | 105 | 39.72 | 4,160.67 | 51.18 | 5,361.11
Letters to Owners/Agents: Option 2 and 4 (HUD-9627) | 1,801 | 1,801 | 0.25 | 450 | 39.72 | 17,883.93 | 51.18 | 23,043.80
Request to Renew Using Non-Section 8 Units in the Section 8 Project as a Market Rent Ceiling (HUD-9629) | 10 | 10 | 0.50 | 5 | 39.72 | 198.60 | 51.18 | 255.90
Request to Renew Using FMRs as Market Ceiling (HUD-9630) | 88 | 88 | 0.50 | 44 | 39.72 | 1,747.68 | 51.18 | 2,251.92
Sample Use Agreement (HUD-9634) | 55 | 55 | 0.50 | 28 | 39.72 | 1,092.30 | 51.18 | 1,407.45
Projects Preparing a Budget-Based Rent Increase (HUD-9635) | 1,697 | 1,697 | 1.00 | 1,697 | 39.72 | 67,404.84 | 51.18 | 86,852.46
Housing Assistance Payments Basic Renewal Contract—One-Year Term (HUD-9636) | 500 | 500 | 0.50 | 250 | 39.72 | 9,930.00 | 51.18 | 12,795.00
Housing Assistance Payments Basic Renewal Contract—Multi-Year Term (HUD-9637) | 800 | 800 | 0.50 | 400 | 39.72 | 15,888.00 | 51.18 | 20,472.00
Housing Assistance Payments Renewal Contract for Mark-Up-To-Market Project (HUD-9638) | 169 | 169 | 0.50 | 85 | 39.72 | 3,356.34 | 51.18 | 4,324.71
Housing Assistance Payments Preservation Renewal Contract (HUD-9639) | 213 | 213 | 0.50 | 107 | 39.72 | 4,230.18 | 51.18 | 5,450.67
Housing Assistance Payments Interim (Full) Mark-To-Market Renewal Contract (HUD-9640) | 53 | 53 | 0.50 | 27 | 39.72 | 1,052.58 | 51.18 | 1,356.27
Housing Assistance Payments Interim (Lite) Mark-To-Market Renewal Contract (HUD-9641) | 68 | 68 | 0.50 | 34 | 39.72 | 1,350.48 | 51.18 | 1,740.12
Housing Assistance Payments Full Mark-To-Market Renewal Contract (HUD-9642) | 63 | 63 | 0.50 | 32 | 39.72 | 1,251.18 | 51.18 | 1,612.17
Housing Assistance Payments Watch List Renewal Contract (HUD-9643) | 117 | 117 | 0.50 | 59 | 39.72 | 2,323.62 | 51.18 | 2,994.03
Project-Based Assistance Housing Assistance Payments Contract For Previous Mod Rehab Projects (HUD-9644) | 25 | 25 | 0.50 | 13 | 39.72 | 496.50 | 51.18 | 639.75
Housing Assistance Payments Program Housing Finance & Development Agencies Extension Amendment to Old Regulation State Agency Housing Assistance Payments Contract (HUD-9647) | 10 | 10 | 0.50 | 5 | 39.72 | 198.60 | 51.18 | 255.90
Consent to Assignment of HAP Contract as Security for Freddie Mac Financing (HUD-9648a) | 50 | 50 | 0.50 | 25 | 39.72 | 993.00 | 51.18 | 1,279.50
Consent to Assignment of HAP Contract to FNMA as Security for FNMA Credit Enhancement (HUD-9648d) | 50 | 50 | 0.50 | 25 | 39.72 | 993.00 | 51.18 | 1,279.50
Consent to Assignment of HAP Contract as Security for Financing (HUD-9649) | 600 | 600 | 0.50 | 300 | 39.72 | 11,916.00 | 51.18 | 15,354.00
Consent to Assignment of Senior Preservation Rental Assistance Contract (SPRAC) as Security for Financing (HUD-9649a) | 50 | 50 | 1.00 | 50 | 39.72 | 1,986.00 | 51.18 | 2,559.00
Consent to Assignment of HAP Contract as Security for FNMA Financing (HUD-9651) | 100 | 100 | 0.50 | 50 | 39.72 | 1,986.00 | 51.18 | 2,559.00
Total | 21,765 | 21,765 |  | 16,655 |  | 661,516.74 |  | 852,377.31

Description of the need for the information and proposed use: The Section 8 Renewal Policy Guidebook explains the various options available under the Multifamily Housing Reform and Affordability Act of 1997 (MAHRA) for the renewal of expiring project-based section 8 contracts and the adjustment of contract rents and establishes related administrative policies. Forms included in the information collection are used in the renewal and contract rent adjustment processes. For example, listed forms are used to establish market rents; amend rents; request renewal of a Section 8 contract under the Multifamily Housing Reform and Affordability Act of 1997; and ensure the acceptable operation of properties assisted under a Section 8 HAP contract.

Respondents: Businesses or other for-profit and not-for-profit entities.

Estimated number of respondents: 21,765.

Estimated number of responses: 21,765.

Frequency of response: Various.

Average hours per response: 0.56 hours.

Total estimated burden hours: 16,655 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. 3507.

Colette Pollard,
Department Reports Management Officer, Office of Policy Development and Research, Chief Data Officer.

[FR Doc. 2023-10509 Filed 5-16-23; 8:45 am]

BILLING CODE 4210-67-P